NEIGHBORHOOD REINVESTMENT CORPORATION

Neighborworks America; Regular Board of Directors Sunshine Act Meeting

TIME AND DATE: 1 p.m., Tuesday, June 1, 2010.

PLACE: 1325 G Street, NW., Suite 800, Boardroom Washington, DC 20005.

STATUS: Open.

CONTACT PERSON FOR MORE INFORMATION: Erica Hall, Assistant Corporate Secretary (202) 220-2376; ehall@nw.org.

Agenda

I. Call To Order.

II. Approval of the Minutes.

III. Approval of the Minutes.

IV. Summary Report of the Audit Committee.

V. Summary Report of the Finance, Budget and Program Committee.

VI. Summary of the NHSA Special Board Committee Meeting.

VII. Summary of the NHSA Special Board of Directors Meeting.

VIII. Summary Report of the Corporate Administration Committee.

IX. Board Appointments.

X. Code of Conduct.

XI. Investment Policy.

XII. Strategic Planning Process Timeline.

XIII. Financial Report.

XIV. Corporate Scorecard.

XV. NHSA Update.

XVI. Chief Executive Officer's Quarterly Management Report.

XVII. Adjournment

Erica Hall,
Assistant Corporate Secretary.

[FR Doc. 2010-12974 Filed 6-2-10; 8:45 am]

BILLING CODE 7570-02-M